SMALL BUSINESS ADMINISTRATION

[Declaration of Economic Injury Disaster #9L55]

State of Ohio

Hamilton County and the contiguous counties of Butler, Clermont and Warren in the State of Ohio; Dearborn and Franklin Counties in the State of Indiana; and Boone, Campbell and Kenton Counties in the Commonwealth of Kentucky constitute a disaster area due to a civil disturbance beginning on April 9, 2001. Eligible small businesses and small agricultural cooperatives without credit available elsewhere may file applications for economic injury assistance as a result of this disaster until the close of business on February 1, 2002 at the address listed below or other locally announced locations: U.S. Small Business Administration, Disaster Area 2 Office, One Baltimore Place, Suite 300, Atlanta, GA 30308.

The interest rate for eligible small businesses and small agricultural cooperatives in 4 percent.

The number assigned for economic injury is 9L5500 for the State of Ohio; 9L5600 for the State of Indiana; 9L5700 for the Commonwealth of Kentucky.

(Catalog of Federal Domestic Assistance Program No. 59002)

Dated: May 1, 2001.
John Whitmore,
Acting Administrator.

[FR Doc. 01-11541 Filed 5-7-01; 8:45 am]

BILLING CODE 8025-01-M